DEPARTMENT OF HOMELAND SECURITY

Coast Guard

33 CFR Part 117

[CGD08-05-005]

RIN 1625-AA09

Drawbridge Operation Regulations; Upper Mississippi River, Dubuque, IA

AGENCY: Coast Guard, DHS.

ACTION: Notice of temporary deviation from regulations.

SUMMARY: The Commander, Eighth Coast Guard District has issued a temporary deviation from the regulation governing the operation of the Illinois Central Railroad Drawbridge, across the Upper Mississippi River, mile 579.9 at Dubuque, Iowa. This deviation allows the drawbridge to remain closed to navigation unless at least 12 hours advance notice is given for an opening from 6 a.m., January 17, 2005, until 6 p.m., February 28, 2005, Central Standard Time. The deviation is necessary to allow time for making repairs of critical mechanical components essential to the continued safe operation of the drawbridge.

DATES: This temporary deviation is effective from 6 a.m., January 17, 2005 through 6 p.m., February 28, 2005.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, (314) 539-3900, extension 2378.

SUPPLEMENTARY INFORMATION: The Chicago, Central and Pacific Railroad requested a temporary deviation to allow time to conduct repairs to the Illinois Central Railroad Drawbridge, across the Upper Mississippi River, mile 579.9 at Dubuque, Iowa. The Illinois Central Railroad Drawbridge currently operates in accordance with 33 CFR 117.5 which requires the drawbridge to open promptly and fully for passage of vessels when a request to open is given in accordance with 33 CFR 117, subpart A. In order to repair the main stringers over the turntable of the swing span, the bridge must be kept in the closed to navigation position. This deviation allows the bridge to remain closed to navigation for 43 days from 6 a.m., January 17, 2005 until 6 p.m., February 28, 2005. The drawbridge will open during this time period upon 12 hours advance notice. There are no alternate routes for vessels transiting through mile 579.9 on the Upper Mississippi River.

The Illinois Central Railroad Drawbridge provides a vertical clearance of 19.9 feet above normal pool. Navigation on the waterway consists primarily of commercial tows and recreational watercraft. This deviation has been coordinated with waterway users. No objections were received.

In accordance with 33 CFR 117.35(c), this work will be performed with all due speed in order to return the bridge to normal operation as soon as possible. This deviation from the operating regulations is authorized under 33 CFR 117.35.

Dated: January 7, 2005.
Roger K. Wiebusch,
Bridge Administrator.

[FR Doc. 05-790 Filed 1-13-05; 8:45 am]

BILLING CODE 4910-15-P